DEPARTMENT OF VETERANS AFFAIRS

Veterans' Advisory Committee on Rehabilitation, Notice of Meeting

Department of Veterans Affairs (VA) gives notice under the Federal Advisory Committee Act, 5 U.S.C. Ch. 10, that the Veterans' Advisory Committee on Rehabilitation (hereinafter the Committee) will meet on Monday, September 16, 2024 and Tuesday, September 17, 2024. The meeting sessions will begin and end as follows:

Date | Time | Location | Open session
September 16, 2024 | 7:45 a.m.-1:30 p.m. Pacific Standard Time (PST) | Seattle VA Medical Center, 1660 S. Columbian Way, Seattle, WA 98108 | Yes.
September 16, 2024 | 1:30 p.m.-3:00 p.m. PST | Seattle VA Medical Center, 1660 S. Columbian Way, Seattle, WA 98108 | No.
September 17, 2024 | 8:30 a.m.-12:30 p.m. PST | Seattle Regional Office, Jackson Federal Building, 915 2nd Avenue, Seattle, WA 98174 | Yes.

Sessions are open to the public, except when the Committee is conducting a tour of VA facilities. Tours of VA facilities are closed to protect Veterans' privacy and personal information, by 5 U.S.C. 552b(c)(6).

The purpose of the Committee is to advise the Secretary of VA on the rehabilitation needs of Veterans with disabilities and the administration of VA's rehabilitation programs.

During the open sessions, the Committee will receive briefings on various Veterans Health Administration and Veterans Benefits Administration (VBA) programs designed to enhance the rehabilitative potential of Veterans with disabilities. In the closed session, the Committee will tour the Seattle VA Medical Center located at 1660 S. Columbian Way, Seattle, WA 98108.

Members of the public may submit written statements until Wednesday, September 11, 2024, for the Committee's review to Ms. Latrese Thompson, Designated Federal Officer, VBA (28), 1800 G Street NW, Washington, DC 20006, or at VACOR.VBACO@va.gov. In the communication, writers must identify themselves and state the organization, association, or person(s) they represent.

Members of the public may attend in person or virtually using the following Microsoft Teams link by computer or mobile app:

Join the Meeting Now

https://teams.microsoft.com/l/meetup-join/19%3ameeting_Yzc0NDVjZWItNWIxYy00MTk4LWJhMWUtMDAyNmEwMWI0ZmRm%40thread.v2/0?context=%7b%22Tid%22%3a%22e95f1b23-abaf-45ee-821d-b7ab251ab3bf%22%2c%22Oid%22%3a%22c392d3a0-a06e-41a2-bbcd-b0d7bfd785dd%22%7d

Meeting ID: 287 084 852 938

Passcode: fVKULR

Join by phone: 1-205-235-3524

Phone Conference ID: 297032590#

Dated: August 19, 2024.
Jelessa M. Burney,
Federal Advisory Committee Management Officer.

[FR Doc. 2024-18914 Filed 8-22-24; 8:45 am]

BILLING CODE 8320-01-P